DEPARTMENT OF AGRICULTURE

Food and Nutrition Service

Agency Information Collection Activities: Proposed Collection; Comment Request—Food Program and Reporting System (FPRS)

AGENCY: Food and Nutrition Service (FNS), USDA.

ACTION: Notice.

SUMMARY: In accordance with the Paperwork Reduction Act of 1995, this notice invites the general public and other public agencies to comment on this proposed information collection. This is a revision of a currently approved collection for the Food Programs Reporting System (FPRS). The purpose of FPRS is to enable data gathering for the reporting of data related to Food and Nutrition Service (FNS) programs, including the Supplemental Nutrition Assistance Program (SNAP). FPRS is the primary collection point for FNS program performance statistics and financial data from State agencies, Indian Tribal Organizations and U.S. Territories running and operating the nutrition assistance programs. FNS is announcing a revision to the reporting requirements in the SNAP Employment and Training program, specifically FNS-583, SNAP Employment and Training Program Activity Report, due to changes in rulemaking from the final rule titled, “Employment and Training Opportunities in the Supplemental Nutrition Assistance Program,” RIN 0584-AE68 published January 5, 2021. This notice also announces the proposed revision of the FNS-366B, Program Activity Statement, to revise the currently collected data on initial and recertification applications. FNS is not requesting any other updates in this request.

DATES: Written comments must be received on or before December 7, 2021.

ADDRESSES: Comments may be submitted via fax to Moira Johnston at 703-305-2515 or via email to moira.johnston@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Moira Johnston at 703-305-2515.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Programs Reporting System.

Form Number: FNS-583, SNAP Employment and Training Program Activity Report and the FNS-366B, Program Activity Statement.

OMB Number: 0584-0594.

Expiration Date: 07/31/2023.

Type of Request: Revision of a currently approved collection.

Abstract:

FNS-583 Revision

The SNAP Employment and Training (E&T) program, established by the Food Security Act of 1985, helps able-bodied SNAP recipients find work or gain the skills, training, and experience that leads to employment. In accordance with 7 CFR 273.7(c)(9), State agencies are required to submit quarterly E&T Program Activity Reports containing monthly figures for participation in the program no later than 45 days after the end of each Federal fiscal quarter FNS uses Form FNS-583 to provide the format for this data. State agencies report this data using the online Food Program Reporting System (FPRS, OMB Control Number: 0584-0594; Expiration Date: 07/31/2023). The purpose of the E&T Program Activity Report (FNS-583) submitted and maintained in FPRS is to collect standard and consistent information on all States and Territories Work Registrants, E&T Participation, Able-Bodied Adults Without Dependents (ABAWD), Program Activities, Components funded through the Supplemental Nutrition Assistance Program Office of Employment and Training (OET). The data collected through the FNS-583 is used by FNS to help with management decisions, supports policy initiatives, and provides insight into where OET can best offer Technical Assistance to States, thus supporting planning within the agency. The current data elements collected as part of the FNS-583 in accordance with 7 CFR 273.7(c)(9), ask State agencies to report on:

• Newly work registered E&T participants;

• Number of ABAWD applicants and recipients participating in qualifying components;

• The number of all applicants and recipients participating in components;

• The number of ABAWDS subject to the 3-month time limit (in accordance with 273.24(b)) who are exempt under the State agency's discretionary exemptions under 273.24(g).

Merging OMB-Approved Burden for the FNS-583 from OMB Control Number: 0584-0653 to OMB Control Number: 0584-0594: FNS intends to update the FNS-583 form to reflect changes made as a direct result of the final rule titled, “Employment and Training Opportunities in SNAP,” RIN 0584-AE68, published January 5, 2021, (86 FR 358). The information collection burden associated with FNS final rule, 7 CFR parts 271 and 273, “Employment and Training Opportunities in the Supplemental Nutrition Assistance Program,” was approved under OMB Control Number: 0584-0653; Expiration Date: March 31, 2024. The OMB term of clearance for this Information Collection Request (ICR) was that FNS would merge the burden hours for additional data elements on the FNS-583 (currently approved under OMB Control Number: 0584-0653) into the information collection for Food Programs Reporting System (FPRS).

In the final rule, the Department added the requirement for reporting four (4) additional data elements related to mandatory E&T participants to 7 CFR 273.7(c)(11). “The Department is committed to ensuring that State agencies are providing mandatory E&T participants with opportunities to gain skills and appropriate services that help them be successful. Therefore, the Department proposed adding additional reporting elements to this fourth quarter report focused on mandatory E&T participants: The unduplicated number of SNAP applicants and participants required to participate in an E&T program during the fiscal year, and, of those, the number who actually began to participate in an E&T program.” State agencies running FNS' mandatory programs are required to report these additional data elements on the Federal Fiscal Year fourth quarter report of the FNS-583 to FNS using the FPRS database.

The four (4) mandatory data elements include:

1. The number of SNAP applicants and participants required to participate in E&T by the State agency.

2. Of those required to participate, the number who begin participation in an E&T program.

3. Of those required to participate, the number who begin participation in an E&T component.

4. The number of mandatory E&T participants who were determined ineligible for failure to comply with E&T requirements.

This information collection request merges the 17 States who will submit 1 (one) response annually for an estimated total of 17 annual responses and 68 estimated annual burden hours associated with CFR 273.7(c)(11) reporting additional FNS 583 data elements currently approved under OMB Control Number: 0584-0653 information collection associated with a final rulemaking into the FPRS OMB Control Number: 0584-0594, which will now account for these additional elements to the revised FNS-583.

Revisions to the FNS-583 Not Determined by Rulemaking

The final rule requires that individuals participating in SNAP Employment and Training (E&T) must be provided with case management services, in addition to one or more E&T component, in accordance to 237.7(e)(1). As such, in addition to the four (4) mandatory data elements required due to rulemaking, FNS has an additional optional reporting case management reporting not determined by rulemaking.

The one (1) optional data elements include:

1. The number of E&T participants who received case management services.

While offering case management is required, the Department does not currently require States to report on the number of individuals that receive case management services on the FNS-583. However, many State agencies track the provision of case management services and may wish to report on those activities in their 4th quarter FNS-583 report. The Department requests to include in this revision of the FNS-583 a section that would to allow States the option to report the number of individuals that receive case management services.

The reporting of case management data is voluntary, but is intended to assist FNS in monitoring State's implementation of the mandatory case management offering and increase State's accountability.

This information collection revision for OMB Control Number: 0584-0594 includes an additional 1.25 hours for the addition of the voluntary case management data field to the FNS-583.

Affected Public: State, Local and Tribal Governments. Respondent group includes State agencies administering the SNAP E&T program in 50 States, the District of Columbia, Guam, and the U.S. Virgin Islands.

Estimated Number of Respondents: The total estimated number of respondents annually for the reporting burden of the FNS-583 is 53 State agencies.

FNS estimates that currently, about 17 respondents of the 53 State agencies would be subject to the new data elements required for mandatory States. In addition, about 15 respondents of the 53 State agencies may choose to report on the new optional elements of case management services, although this is not a requirement by rulemaking. This is a total of 32 States agencies who will respond to the new changes associated with the revision of form FNS-583.

Estimated Number of Responses per Respondent: The 53 States agencies are required to submit data on the FNS-583 for 4 reports per year (quarterly). As both the new reporting elements for mandatory States and the optional case management reporting only affects the 4th quarter of the 583, the estimated number of responses per respondent is 1 for both the additional data entries and the optional case management reporting. On average, for all 53 State agencies, the estimated number of responses per respondent is 4.6 responses annually.

Total Annual Responses: The total annual responses is 244. This number includes the 212 burden hours currently approved for the quarterly FNS-583 report as well as the estimated newly estimated 17 total annual responses from mandatory States on the new data elements due to the final rulemaking plus the newly estimated 15 responses on optional case management reporting not associated with any rulemaking and at the discretion of the FNS; therefore, 32 of the 244 total annual responses are new.

Estimated Time per Response: There will be an additional 4 hours for the 17 State agency respondents of mandatory States reporting additional data elements. The optional reporting of case management will take about 5 minutes (0.0835 hours) per response estimated for 15 State agency respondents.

Estimated Total Annual Burden on Respondents: The burden to be added to OMB Control Number: 0584-0594 is 69.25 hours. This total includes 68 hours from the new 4 data elements from mandatory States (currently approved under OMB Control Number 0584-0653, to be merged into OMB Control Number: 0584-0594) plus the 1.25 hours from reporting the optional case management (newly requested burden under OMB Control Number: 0584-0594). The currently approved reporting burden hours is 20,776 for the FNS 583 under OMB Control Number: 0584-0594 (expiration 7/31/2023). The updated total FNS-583 burden is 20,845.25 hours. The new total FPRS burden includes the previously approved burden of 104,610.5 total hours plus the additional 69.25 hours from the merge from OMB Control Number: 0584-0653 and the newly requested data element, resulting in 104,679 as the Overall Grand Total Burden Estimates for FPRS.

See the table below for estimated total annual burden for each type of respondent.

Reporting Burden Estimates for the FNS-583
| Respondent | Form | CFR citation | Estimated number respondent | Responses annually per respondent | Total annual responses (col. b × c) | Estimated avg. number of hours per response | Estimated total hours (col. d × e)
Reporting Burden
Currently Approved Reporting Burden for the FNS-583 in OMB Control Number 0584-0594 (expiration 7/31/2023) | State Agency Administrative Staff | FNS 583 |  | 53 | 4 | 212 | 98 | 20,776.00
** Currently Approved Additional Data Request—Mandatory Reporting (Burden to be merged from OMB Control Number 0584-0653 to OMB Control Number 0584-0594) | State Agency Administrative Staff Running Mandatory Programs |  | 7 CFR 273.7(c)(11) | 17 | 1 | 17 | 4 | 68.00
NEW Optional Reporting of Case Management (NEW burden to be added to OMB Control Number 0584-0594) | State Agency Administrative Staff |  | TBD | 15 | 1 | 15 | 0.0835 | 1.25
Total Burden to be added to OMB Control Number 0584-0594 |  |  | 32 | 1 | 32 | 4.0835 | 69.25
Grand Total Burden Estimates for FNS 583 |  |  | 53 | 4.603773585 | 244 | 85.4313627 | 20,845.25
* Note: There are only 53 State agencies, FNS is not counting duplicative States who conduct additional activities; we are only counting the activities/responses and the burden times associated with these activities.
** Note: Only 17 of the 53 States agencies are expected to respond to the activities in form FNS 583 requirements in 7 CFR 273.7 (c) (11) burden activities approved OMB Control Number: 0584-0653 associated with the final rulemaking for E&T SNAP. All other burden approved in OMB Control Number: 0584-0653 collection will remain. The burden for FNS 583 will be merged into the FPRS OMB Control Number: 0584-0594 Expiration Date: 07/31/2023.

Total Revised Reporting Burden Estimates for OMB Control Number 0584-0594
Respondent | Instrument/form | Estimated number respondents | Responses annually per respondent | Total annual responses (col. b × c) | Estimated avg. number of hours per response | Estimated total hours (col. d × e)
Reporting Burden
Currently Approved Burden in in OMB Control Number 0584-0594 | 12,708 | 3.71081208687441 | 47,157 | 2.16392052081 | 102,044
Total Burden to be added to OMB Control Number 0584-0594 | 32 | 1 | 32 | 2.1640625 | 69.25
Overall Grand Total for OMB Control Number 0584-0594 | 12,708 | 3.69 | 47,189 | 2.163920617092967 | 102,113.25

Total Revised Reporting Burden Estimates for OMB Control Number 0584-0653
| Estimated total hours | Total annual responses
Currently Approved Reporting Burden in OMB Control Number: 0584-0653 (expiration 7/31/2023) | 2,071,908 | 15,500,709
Total Burden to be removed from OMB Control Number 0594-0653 and merged into OMB Control Number: 0584-0594 | −68 | −17
Updated Grand Total Burden Estimates remaining in OMB Control Number: 0584-0653 | 2,071,840 | 15,500,692

FNS-366B Revision

The FNS-366B, Program Activity Statement, is FNS' primary means of collecting data on the integrity and certification activities of State SNAP agencies. The Certification section of the FNS-366B is used to track the number of initial and recertification applications approved or denied by the State agency in the specified reporting quarter, as well as the number of applications that were approved beyond processing requirements. Collection of this data is required by Federal regulations authorized by the Food and Nutrition Act of 2008 (the Act). Under 7 CFR 272.2(c)(1)(ii) of SNAP regulations, State agencies are required to periodically report to FNS using the Program Activity Statement (FNS-366B) on a quarterly basis.

After a recent policy review, FNS determined updates to the FNS-366B were needed to revise currently collected metrics related to SNAP recertification policy. Households that file a recertification application within 30 days of the end of their certification period are entitled to expedited service, if eligible. While the FNS-366B currently collects aggregate data on expedited applications on its current form, the form does not differentiate between expedited initial applications and expedited recertification applications. FNS is proposing to update the form to make this distinction. The form revision acknowledges the distinction in the policy. With the form changes, FNS will be able to collect disaggregated data on expedited applications, which will help inform the monitoring and tracking of timeliness compliance and identify opportunities for additional technical assistance.

Currently, State agencies are instructed to enter line 6 on the FNS-366B “Expedited Service.” FNS proposes to update the form by breaking down this data point into two separate data points, as follows:

• Line 6, “Expedited Service”, will be replaced by Line 6a—“Expedited Service—Initial Applications.”

• FNS will also add Line 6b—“Expedited Service—Recertifications.”

• FNS has updated the FNS-366B instructions to reflect this proposed change.

The reporting burden of 3,180 burden hours, 53 respondents, and 212 total responses for the current version of the FNS-366B form is covered under OMB number 0584-0594, expiration date 07/31/2023. The recordkeeping burden of 1,124 hours for the FNS-366B form is currently covered under OMB number 0584-0083, expiration date 08/31/2023. We do not anticipate the changes to the FNS-366B will impact the current reporting or recordkeeping burden which will remain the same.

Respondent | Form No. | CFR | Estimated number of respondents | Frequency of response per respondent | Total annual response | Estimated hrs. per response | Annual burden hrs.
State Agencies | FNS-366B: Program and Budget Summary Statement: Program Activity Statement | 7 CFR 272.2 | 53.0 | 4.0 | 212.0 | 15.0 | 3,180.0

Cynthia Long,
Administrator, Food and Nutrition Service.

[FR Doc. 2021-22011 Filed 10-7-21; 8:45 am]

BILLING CODE 3410-30-P